DEPARTMENT OF HOMELAND SECURITY

Federal Emergency Management Agency

[Docket ID: FEMA-2017-0007; OMB No. 1660-0029]

Agency Information Collection Activities: Submission for OMB Review; Comment Request; Approval and Coordination of Requirements To Use the NETC for Extracurricular and Training Activities

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before May 26, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This proposed information collection previously published in the Federal Register on February 6, 2017 at 82 FR 9388 with a 60 day public comment period. FEMA received one request for a copy of the proposed information collection by the public. The Agency responded to this comment and provided the most up-to-date copy of the proposed information collection to the requester. The purpose of this notice is to notify the public that FEMA will submit the information collection abstracted below to the Office of Management and Budget for review and clearance.

Collection of Information

Title: Approval and Coordination of Requirements To Use the NETC for Extracurricular and Training Activities.

Type of Information Collection: Revision of a currently approved information collection.

OMB Number: 1660-0029.

Form Titles and Numbers: FEMA Form 119-17-1, Request for Housing Accommodations; FEMA Form 119-17-2, Request for Use of NETC Facilities.

Abstract: FEMA established the National Emergency Training Center (NETC), located in Emmitsburg, Maryland to offer training for the purpose of emergency preparedness. The NETC site has facilities and housing available for those participating in emergency preparedness. When training space and/or housing is required for those attending the training, a request for use of these areas must be made in advance and this collection provides the mechanism for such requests to be made.

Affected Public: Not-for-profit institutions; Federal Government; State, Local or Tribal Government; individuals or households; and business or other for-profit.

Estimated Number of Respondents: 60.

Estimated Total Annual Burden Hours: 120 hours.

Estimated Cost: The estimated annual cost to respondents for the hour burden is $407.04. The annual costs to respondents' operations and maintenance costs for technical services is $956.40. There are no annual start-up or capital costs. The cost to the Federal Government is $1,014.60.

Dated: April 12, 2017.
Tammi Hines,
Records Management Program Chief (Acting), Mission Support, Federal Emergency Management Agency, Department of Homeland Security.

[FR Doc. 2017-08376 Filed 4-25-17; 8:45 am]

BILLING CODE 9111-45-P